NATIONAL SCIENCE FOUNDATION

Networking and Information Technology Research and Development Request for Information on a National Plan for Cyber-Physical Systems Resilience

AGENCY: Networking and Information Technology Research and Development (NITRD) National Coordination Office (NCO), National Science Foundation.

ACTION: Request for information.

SUMMARY: On behalf of Office of Science and Technology Policy (OSTP), the NITRD National Coordination Office seeks public input for the creation of a National Plan for Cyber-Physical Systems Resilience Research (the Plan). The goal of the plan is to shape a whole-of-government research and development (R&D) plan related to cyber-physical resilience across systems that may be local, regional, or national in scope. As defined in the President's Council of Advisors on Science and Technology (PCAST) Report, Strategy for Cyber-Physical Resilience: Fortifying Our Critical Infrastructure for a Digital World, cyber-physical systems are defined as physical systems that rely on computing technologies for sensing, analysis, tracking, controls, connectivity, coordination, and human-system interaction. The National Climate Resilience Framework defines resilience as the ability to prepare for threats and hazards, adapt to changing conditions, and withstand and recover rapidly from adverse conditions and disruptions. From the perspective of the RFI, the system recovery period and performance are acceptable from a social and technical perspective. These definitions will be used for the purposes of this RFI, but respondents are welcome to provide alternate definitions if cyber-physical systems have a different meaning in their industry or field, along with the scientific rationale for specific use-cases. The Plan is scheduled to be released in 2025.

DATES: Interested persons are invited to submit comments on or before 11:59 p.m. (ET) on October 26, 2024.

ADDRESSES: Comments submitted in response to this RFI may be sent by any of the following methods:

• Email: CPSR-ftacRFI@nitrd.gov; Email submissions should be machine-readable and not be copy-protected. Submissions should include “RFI Response: Cyber-Physical Systems Resilience R&D Plan” in the subject line of the message.

• Mail: Attn: Melissa Cornelius, 2415 Eisenhower Avenue, Alexandria, VA 22314, USA.

Instructions: Response to this RFI is voluntary. Each individual or institution is requested to submit only one response. Submissions must not exceed 10 pages in 12 point or larger font, with a page number provided on each page. Responses must include the name of the person(s) or organization(s) filing the comment and the following statement: “This document is approved for public dissemination. The document contains no business-proprietary or confidential information. Document contents may be reused by the government in the National Cyber-Physical Systems Resilience R&D Strategic Plan and associated documents without attribution.”

Responses to this RFI may be posted online at https://www.nitrd.gov/. Therefore, we request that no business proprietary information, copyrighted information, or sensitive personally identifiable information be submitted as part of your response to this RFI.

In accordance with FAR 15.202(3), responses to this notice are not offers and cannot be accepted by the Government to form a binding contract. Responders are solely responsible for all expenses associated with responding to this RFI.

FOR FURTHER INFORMATION CONTACT: David Alexander, David Corman, Kristin Ludwig, Melissa Cornelius, Martin Stanley at CPSR-ftacRFI@nitrd.gov or (202) 459-9674. Individuals who use a telecommunications device for the deaf (TDD) may call the Federal Information Relay Service (FIRS) at 1-800-877-8339 between 8 a.m. and 8 p.m., eastern time, Monday through Friday, except for U.S. Federal Government holidays.

SUPPLEMENTARY INFORMATION: The (PCAST) released its report, Strategy for Cyber-Physical Resilience: Fortifying our Critical Infrastructure for a Digital World. The report makes recommendations to formulate a National Plan for Cyber-Physical Resilience Research. The goal is to enable focused research across Federal programs that increase the likelihood of successful research results, but more importantly help ensure that such results will transition into practice. In response to this, the Fast-Track Action Committee (FTAC) on Cyber-Physical Systems Resilience (CPSR) is developing a National Cyber Physical Systems Resilience (R&D) Strategic Plan (the Plan) which will define research needs that will strengthen our national capability to cyber-physical resilience; identify the gaps; and define research needs, and investment priorities spanning across multiple time horizons. The Plan will coordinate cross-agencies priorities. Responsible innovation in cyber physical resilience could provide significant benefits for the American people especially as systems need to adapt to emergent behaviors or operating conditions far exceeding design specifications.

Information Requested: This RFI seeks input to shape a whole-of-government effort on research and development that will strengthen cyber-physical resilience.

In the context of this RFI, we refer to threats to include cybersecurity, physical, natural disasters including extreme weather events or other hazards such as earthquakes, and the potential for adversary use of AI to disrupt systems as well as deceive human operators of critical infrastructure systems.

Threat-agnostic approaches for resilience are of special interest. As part of the input, we are primarily concerned with the ability of cyber-physical systems to recover and adapt while ability to withstand may be already covered in the current risk assessment and management efforts. We are particularly interested in how resilience by design or resilience by intervention can prepare for recovery and adaptation in different threat scenarios as well as in threat-agnostic situations.

Examples of domains and application of interest include but are not limited to critical infrastructure and systems for energy, transportation, medical, agriculture, water, space, manufacturing, and other R&D topic areas in which the strategic plan should focus, as well as details that should be considered when/if the topic area is elaborated in the strategic plan.

This RFI is NOT soliciting approaches solely focused on risk assessment and management through shielding cyber-physical systems from specific threats including threat identification and sensing, or through hardening the system to make it less vulnerable to specific threat or disruptions. Submitters are encouraged to address the topics of this RFI clearly and concisely.

References

• PCAST Releases Report on Strategy for Cyber-Physical Resilience (https://www.whitehouse.gov/pcast/briefing-room/2024/02/27/pcast-releases-report-on-strategy-for-cyber-physical- resilience/), The White House, February 2024.

• National Climate Resilience Framework (https://www.whitehouse.gov/wp-content/uploads/2023/09/National-Climate-Resilience-Framework-FINAL.pdf https://www.whitehouse.gov/wp-content/uploads/2023/09/National-Climate-Resilience-Framework-FINAL.pdf).

• Strategy for Cyber-Physical Resilience: Fortifying Our Critical Infrastructure for a Digital World, (https://www.whitehouse.gov/wp-content/uploads/2024/02/PCAST_Cyber-Physical-Resilience-Report_Feb2024.pdf) Executive Office of the President, President's Council of Advisors on Science and Technology, February 2024.

• Cyber-Physical Systems Resilience—The Networking and Information Technology Research and Development (NITRD) Program (https://www.nitrd.gov/coordination-areas/cyber-physical-systems-resilience/).

• Submitted by the National Science Foundation in support of the Networking and Information Technology Research and Development (NITRD) National Coordination Office (NCO) on September 20, 2024.

Suzanne H. Plimpton,
Reports Clearance Officer, National Science Foundation.

[FR Doc. 2024-22005 Filed 9-25-24; 8:45 am]

BILLING CODE 7555-01-P